DEPARTMENT OF TRANSPORTATION

Federal Aviation Administration

14 CFR Part 39

[Docket No. 2001-NM-269-AD; Amendment 39-13395; AD 2003-25-12]

RIN 2120-AA64

Airworthiness Directives; Dassault Model Falcon 900 EX and Mystere-Falcon 900 Series Airplanes

AGENCY: Federal Aviation Administration, DOT.

ACTION: Final rule.

SUMMARY: This amendment adopts a new airworthiness directive (AD), applicable to certain Dassault Model Falcon 900 EX and Mystere-Falcon 900 series airplanes. This action requires installing an attachment support assembly for the fire extinguishing piping in the baggage compartment. For certain airplanes this action also requires modifying the liner panel of the baggage compartment. The actions specified by this AD are intended to prevent distortion of the fire extinguishing discharge nozzle as a result of the nozzle not being secure, which could result in poor diffusion of the fire extinguishing agent in the event of a fire in the baggage compartment. This action is intended to address the identified unsafe condition.

DATES: Effective January 27, 2004.

The incorporation by reference of certain publications listed in the regulations is approved by the Director of the Federal Register as of January 27, 2004.

ADDRESSES: The service information referenced in this AD may be obtained from Dassault Falcon Jet, P.O. Box 2000, South Hackensack, New Jersey 07606. This information may be examined at the Federal Aviation Administration (FAA), Transport Airplane Directorate, 1601 Lind Avenue, SW., Renton, Washington; or at the Office of the Federal Register, 800 North Capitol Street, NW., Suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Dassault Model Falcon 900 EX and Mystere-Falcon 900 series airplanes was published as a supplemental notice of proposed rulemaking (NPRM) in the Federal Register on September 19, 2003 (68 FR 54866). The action proposed to require installing an attachment support assembly for the fire extinguishing piping in the baggage compartment. That action also proposed to require modification of the liner panel of the baggage compartment for certain airplanes.

Comments

Interested persons have been afforded an opportunity to participate in the making of this amendment. No comments were submitted in response to the supplemental NPRM or the FAA's determination of the cost to the public.

Conclusion

The FAA has determined that air safety and the public interest require the adoption of the rule as proposed in the supplemental NPRM.

Cost Impact

We estimate that 150 airplanes of U.S. registry are affected by this AD.

It takes about 3 work hours per airplane to install the support assembly, at an average labor rate of $65 per work hour. Required parts are provided by the manufacturer at no cost to the operators. Based on these figures, the cost impact of this action on U.S. operators is estimated to be $29,250, or $195 per airplane.

If required, the panel modification takes about 4 work hours per airplane, at an average labor rate of $65 per work hour. Based on these figures, the cost impact of the proposed panel modification is estimated to be $260 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-25-12 Dassault Aviation: Amendment 39-13395. Docket 2001-NM-269-AD.

Applicability: The following airplanes, certificated in any category:

Table—Applicability
Model— | Excluding airplanes modified in accordance with Dassault Service Bulletin— | Which corresponds to Dassault Modification—
Mystere-Falcon 900 series airplanes | F900-279, dated June 7, 2001 | M3368.
| or F900-279, Revision 1, dated May 15, 2002 | M3368 and M874.
Falcon 900EX series airplanes | F900EX—142, dated June 7, 2001 | F900EX M3368.

Compliance: Required as indicated, unless accomplished previously.

To prevent distortion of the fire extinguishing discharge nozzle as a result of the nozzle not being secure, which could result in poor diffusion of the fire extinguishing agent in the event of a fire in the baggage compartment, accomplish the following:

Installation

(a) Within 7 months or 330 flight hours after the effective date of this AD, whichever comes first, install an attachment support assembly for the fire extinguishing piping in the baggage compartment, in accordance with the following service information, as applicable:

(1) For Model Falcon 900 EX series airplanes: Paragraphs 2.A. through 2.C. of the Accomplishment Instructions of Dassault Service Bulletin F900EX-142, dated June 7, 2001.

(2) For Model Mystere-Falcon 900 series airplanes: Paragraphs 2.A. through 2.D., as applicable, of the Accomplishment Instructions of Dassault Service Bulletin F900-279, Revision 1, dated May 15, 2002. Paragraph 2.B. of this service bulletin includes a modification of the liner panel of the baggage compartment for airplanes having serial numbers 1 through 59 inclusive, with the nozzle directed downward.

Alternative Methods of Compliance

(b) In accordance with 14 CFR 39.19, the Manager, International Branch, ANM-116, Transport Airplane Directorate, FAA, is authorized to approve alternative methods of compliance for this AD.

Incorporation by Reference

(c) The actions shall be done in accordance with Dassault Service Bulletin F900EX-142, dated June 7, 2001; and Dassault Service Bulletin F900-279, Revision 1, dated May 15, 2002; as applicable. This incorporation by reference was approved by the Director of the Federal Register in accordance with 5 U.S.C. 552(a) and 1 CFR part 51. Copies may be obtained from Dassault Falcon Jet, P.O. Box 2000, South Hackensack, New Jersey 07606. Copies may be inspected at the FAA, Transport Airplane Directorate, 1601 Lind Avenue, SW., Renton, Washington; or at the Office of the Federal Register, 800 North Capitol Street, NW., suite 700, Washington, DC.

Note 1: The subject of this AD is addressed in French airworthiness directives 2001-192-034(B) R1 and 2002-261(B), both dated May 15, 2002.

Effective Date

(d) This amendment becomes effective on January 27, 2004.

Issued in Renton, Washington, on December 11, 2003.
Kevin M. Mullin,
Acting Manager, Transport Airplane Directorate, Aircraft Certification Service.

[FR Doc. 03-31192 Filed 12-22-03; 8:45 am]

BILLING CODE 4910-13-P